DEPARTMENT OF COMMERCE

International Trade Administration

[A-570-868]

Folding Metal Tables and Chairs From the People's Republic of China: Notice of Correction to the Final Results of the 2009-2010 Antidumping Duty Administrative Review

AGENCY: Import Administration, International Trade Administration, Department of Commerce.

DATES: Effective Date: November 28, 2011.

FOR FURTHER INFORMATION CONTACT: Lilit Astvatsatrian or Trisha Tran, AD/CVD Operations, Office 4, Import Administration, International Trade Administration, U.S. Department of Commerce, 14th Street and Constitution Avenue NW., Washington, DC 20230; telephone: (202) 482-6412 or (202) 482-4852, respectively.

SUPPLEMENTARY INFORMATION:

Correction

On October 25, 2011, the Department of Commerce (“Department”) published in the Federal Register the final results of the 2009-2010 administrative review of the antidumping duty order on folding metal tables and chairs from the People's Republic of China (“PRC”).¹ The period of review covered June 1, 2009, through May 31, 2010. The published Federal Register notice contained an inadvertent error, in that it stated that “* * * we are revoking the order with respect to subject merchandise exported by New-Tec Integration (Xiamen) Co., Ltd. (“New-Tec”).” ²

¹ See Folding Metal Tables and Chairs From the People's Republic of China: Final Results of Antidumping Duty Administrative Review and New Shipper Review, and Revocation of the Order in Part, 76 FR 66036 (October 25, 2011) (“Final Results”).

² See id.

However, pursuant to our Preliminary Results,³ the Department intended to state that “* * * we are revoking the order with respect to subject merchandise produced and exported by New-Tec.” The corrected language is consistent with the Preliminary Results where we stated that “* * * if these preliminary findings are affirmed in our final results, we will revoke this order, in part, with respect to folding metal tables and chairs produced and exported by New-Tec.” ⁴ After the Preliminary Results, parties had an opportunity to comment on the revocation of the order with respect to New-Tec. We received no comments regarding this partial revocation and the Department did not intend to change what was stated in the Preliminary Results with regard to what merchandise would be affected by the revocation. We note that New-Tec's revocation was never mentioned in the Final Results' section regarding “Changes Since the Preliminary Results.” The change in the Final Results was inadvertent and we are now correcting this to conform with the Preliminary Results. Finally, with respect to subject merchandise produced and exported by New-Tec, we will instruct U.S. Customs and Border Protection to terminate the suspension of liquidation for imports of such merchandise entered, or withdrawn from warehouse, for consumption on or after June 1, 2010, and to refund all cash deposits collected.

³ See Folding Metal Tables and Chairs from the People's Republic of China: Preliminary Results of Antidumping Duty Administrative Review and New Shipper Review, and Intent to Revoke Order in Part, 76 FR 35832, 35836 (June 20, 2011) (“Preliminary Results”).

⁴ Id.

This correction is published in accordance with sections 751(h) and 777(i) of the Tariff Act of 1930, as amended.

Dated: November 21, 2011.
Paul Piquado,
Assistant Secretary for Import Administration.

[FR Doc. 2011-30594 Filed 11-25-11; 8:45 am]

BILLING CODE 3510-DS-P